DEPARTMENT OF HEALTH AND HUMAN SERVICES

National Institutes of Health

National Institute of Dental & Craniofacial Research; Notice of Closed Meeting

Pursuant to section 10(d) of the Federal Advisory Committee Act, as amended, notice is hereby given of a meeting of the Board of Scientific Counselors, NIDCR.

The meeting will be closed to the public as indicated below in accordance with the provisions set forth in section 552b(c)(6), Title 5 U.S.C., as amended for the review, discussion, and evaluation of individual intramural programs and projects conducted by the National Institute of Dental and Craniofacial Research, including consideration of personnel qualifications and performance, and the competence of individual investigators, the disclosure of which would constitute a clearly unwarranted invasion of personal privacy.

Name of Committee: Board of Scientific Counselors, NIDCR.

Date: June 2-3, 2022.

Time: June 2, 2022, 10:00 a.m. to 6:05 p.m.

Agenda: To review and evaluate personnel qualifications and performance, and competence of individual investigators.

Place: National Institutes of Health, 6701 Democracy Blvd., Bethesda, MD 20892 (Virtual Meeting).

Time: June 3, 2022, 10:00 a.m. to 2:15 p.m.

Agenda: To review and evaluate personnel qualifications and performance, and competence of individual investigators.

Place: National Institutes of Health, 6701 Democracy Blvd., Bethesda, MD 20892 (Virtual Meeting).

Contact Person: Lynn M. King, Ph.D., Director, Division of Extramural Activities, National Institute of Dental and Craniofacial Research, 6701 Democracy Boulevard, Bethesda, MD 20892, (301) 594-5006, lynn.king@nih.gov.

(Catalogue of Federal Domestic Assistance Program Nos. 93.121, Oral Diseases and Disorders Research, National Institutes of Health, HHS)

Dated: May 5, 2022.
Melanie J. Pantoja,
Program Analyst, Office of Federal Advisory Committee Policy.

[FR Doc. 2022-10034 Filed 5-9-22; 8:45 am]

BILLING CODE 4140-01-P